DEPARTMENT OF DEFENSE

Department of the Navy

Notice of Record of Decision for the Introduction of the P-8A Multi-Mission Maritime Aircraft into the U.S. Navy Fleet

AGENCY: Department of the Navy, DoD.

ACTION: Notice.

SUMMARY: The Department of the Navy (Navy), after carefully weighing the operational and environmental consequences of the proposed action, announces its decision to provide facilities and functions to support homebasing twelve P-8A Fleet squadrons and one Fleet Replacement Squadron at established maritime patrol home bases. The Navy considered applicable laws, regulations, and Executive Orders, including an analysis of the environmental effects of its actions under the requirements of Executive Order 12898 (Federal Actions to Address Environmental Justice in Minority Populations and Low Income Populations). The proposed action will be accomplished as set out in Alternative 5, described in the Final Environmental Impact Statement (EIS) as the preferred alternative. Implementation of the preferred alternative could begin immediately.

SUPPLEMENTARY INFORMATION: The Record of Decision (ROD) has been distributed to all those individuals who requested a copy of the Final EIS and agencies and organizations that received a copy of the Final EIS. The complete text of the Navy's Record of Decision (ROD) is available for public viewing on the project Web site at http://www.mmaeis.com along with copies of the FEIS and supporting documents. Single copies of the ROD will be made available upon request by contacting the Commander, Naval Facilities Engineering Command Atlantic, Attn: MMA PM, 6506 Hampton Blvd. Bldg A, Norfolk, VA 23508-1278; e-mail: chris.l.harding@navy.mil.

Dated: December 23, 2008.
T. M. Cruz,
Lieutenant Commander, Judge Advocate General's Corps, U.S. Navy, Federal Register Liaison Officer.

[FR Doc. E8-31202 Filed 12-31-08; 8:45 am]

BILLING CODE 3810-FF-P